DEPARTMENT OF COMMERCE

National Oceanic and Atmospheric Administration

50 CFR Part 216

[Docket No. 000720213-1140-02; I.D 062000C]

RIN 0648-AO40

Marine Mammals; Subsistence Taking of Northern Fur Seals; Harvest Estimates

AGENCY: National Marine Fisheries Service (NMFS), National Oceanic and Atmospheric Administration (NOAA), Commerce.

ACTION: Final estimates of annual fur seal subsistence needs.

SUMMARY: Pursuant to the regulations governing the subsistence taking of northern fur seals, NMFS publishes final annual estimates of fur seal subsistence needs for 2000 through 2002 on the Pribilof Islands, Alaska. These estimates are the same as for the previous 3-year period. NMFS estimates that the subsistence needs are 1,645-2000 seals on St. Paul and 300-500 seals on St. George.

DATES: Effective July 20, 2001.

FOR FURTHER INFORMATION CONTACT: Dave Cormany, (907) 271-3024; Michael Payne, (907) 586-7235; or Tom Eagle, (301) 713-2322, ext. 105.

SUPPLEMENTARY INFORMATION: The subsistence harvest of northern fur seals, Callorhinus ursinus, by Alaska Native residents of the Pribilof Islands, Alaska, is governed by regulations found in 50 CFR part 216, subpart F, Taking for Subsistence Purposes. These regulations require NMFS to publish every 3 years a summary of the harvest in the preceding 3 years and a discussion of the number of fur seals expected to be taken over the next 3 years to satisfy the subsistence requirements of residents of the Pribilof Islands (St. Paul and St. George). After a 30-day comment period, NMFS must publish a final notification of the expected annual harvest levels for the next 3 years.

On August 9, 2000 (65 FR 48669), NMFS published the summary of the 1997-1999 fur seal harvests and provided a 30-day comment period on proposed estimates of subsistence needs for the years 2000 through 2002. No comments were received on the proposed estimates or on draft Environmental Assessment. Final expected annual harvest levels for 2000 through 2002 are 1,645-2000 seals on St. Paul Island and 300-500 seals on St. George Island. Background information related to these estimates was included in the proposed harvest estimates on August 9, 2000.

Classification

National Environmental Policy Act

Pursuant to section 102 (2) of the National Environmental Policy Act, NMFS prepared an Environmental Assessment to accompany this action and a Finding of No Significant Impact with respect to the effects of the action on the human environment.

Executive Order (E.O.) 12866 and Regulatory Flexibility Act

This rule has been determined to be not a significant rule under E.O. 12866. The Chief Counsel for Regulation, Department of Commerce, certified to the Chief Counsel for Advocacy of the Small Business Administration that this action would not have a significant economic impact on a substantial number of small entities. No comments were received regarding the economic impact of this rule. Therefore, the requirements to prepare a regulatory flexibility analysis are not applicable, and none was prepared.

Paperwork Reduction Act

This action does not require the collection of information.

Executive Order 13132-Federalism

This action does not contain policies with federalism impacts sufficient to warrant preparation of a federalism assessment under E.O. 13132 because this action does not have substantial direct effects on the states, on the relationship between the national government and the states, or on the distribution of power and responsibilities among the various levels of government. Nonetheless, NMFS worked closely with local governments in the Pribilof Islands to prepare these estimates of subsistence needs.

Executive Order 13084-Consultation and Coordination with Indian Tribal Governments

E.O. 13084 requires that if NMFS issues a regulation that significantly or uniquely affects the communities of Indian tribal governments and imposes substantial direct compliance costs on those communities, NMFS must consult with those governments, or the Federal government must provide the funds necessary to pay the direct compliance costs incurred by the tribal governments. This action does not impose substantial direct compliance costs on the communities of Indian tribal governments. Accordingly, the requirements of section 3(b) of E.O. 13084 do not apply to this action.

Nonetheless, NMFS took several steps to work with affected tribal governments to prepare and implement the action. These steps included discussions on subsistence needs and mechanisms to ensure that the harvest is conducted in a non-wasteful manner. NMFS and the Tribal Government of St. Paul are negotiating a cooperative agreement pursuant to section 119 of the Marine Mammal Protection Act to govern future harvests.

Dated: June 15, 2001.
William T. Hogarth,
Acting Assistant Administrator for Fisheries, National Marine Fisheries Service.

[FR Doc. 01-15649 Filed 6-20-01; 8:45 am]

BILLING CODE 3510-22-S